DEPARTMENT OF HEALTH AND HUMAN SERVICES

Centers for Disease Control and Prevention

Disease, Disability, and Injury Prevention and Control Musculoskeletal Disorders, Request for Applications (RFA) OH-05-004

In accordance with section 10(a)(2) of the Federal Advisory Committee Act (Pub. L. 92-463), the Centers for Disease Control and Prevention (CDC) announces the following meeting:

Name: Disease, Disability, and Injury Prevention and Control Special Emphasis Panel (SEP): Musculoskeletal Disorders, Request for Applications (RFA) OH-05-004.

Times and Dates: 8 a.m.-8:30 a.m., March 22, 2005 (Open). 8:30 a.m.-5 p.m., March 22, 2005 (Closed).

Place: Embassy Suites Hotels, 1900 Diagonal Road, Alexandria, VA 23114 telephone 703-684-5900.

Status: Portions of the meeting will be closed to the public in accordance with provisions set forth in section 552b(c)(4) and (6), Title 5 U.S.C., and the Determination of the Director, Management Analysis and Services Office, CDC, pursuant to Public Law 92-463.

Matters To Be Discussed: The meeting will include the review, discussion, and evaluation of applications received in response to Request for Applications OH-05-004.

Contact Person for More Information: Joan F. Karr, Ph.D., Scientific Review Administrator, Office of Extramural Programs, National Institute for Occupational Safety and Health, CDC, 1600 Clifton Road, NE., MS-D72, Atlanta, GA 30333, Telephone 404-371-5261.

The Director, Management Analysis and Services Office, has been delegated the authority to sign Federal Register notices pertaining to announcements of meetings and other committee management activities, for both the CDC and the Agency for Toxic Substances and Disease Registry.

Dated: February 3, 2005.
Alvin Hall,
Director, Management Analysis and Services Office, Centers for Disease Control and Prevention (CDC).

[FR Doc. 05-2570 Filed 2-9-05; 8:45 am]

BILLING CODE 4163-19-P